DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic Motor and Machinery brakes; 16″ Drum brake, Thruster disk, and 2-Right angle gear reducers for Pasquotnak River Bridge project, Federal-aid project #STP-0158(51), in the State of North Carolina.

DATES: The effective date of the waiver is December 6, 2012.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic Motor and Machinery brakes; 16″ Drum brake, Thruster disk, and 2-Right angle gear reducers.

In accordance with Title I, Division C, section 122 of the “Consolidated and Further Continuing Appropriations Act, 2012” (Pub. L. 112-55), the FHWA published a notice of intent to issue a waiver on its Web site for Motor and Machinery brakes; 16″ Drum brake, Thruster disk, and 2-Right angle gear reducers (http://www.fhwa.dot.gov/construction/contracts/waivers.cfm?id=63) on November 14, 2011. The FHWA received no comment in response to the publication. During the 15-day comment period, the FHWA conducted additional nationwide review to locate potential domestic manufacturers of Motor and Machinery brakes; 16″ Drum brake, Thruster disk, and 2-Right angle gear reducers. The National Institute of Standards and Technology—Manufacturing Extension Partnership also conducted supplier scouting on motor and machinery system and reported that there are some domestic manufacturers of subcomponents to the motor and machinery brake system. However, the subcomponents are not compatible with the specified motor and machinery brakes. Based on all the information available to the agency, the FHWA concludes that there are no domestic manufacturers of Motor and Machinery brakes; 16″ Drum brake, Thruster disk, and 2-Right angle gear reducers for the Pasquotnak River Bridge project in the State of North Carolina.

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the North Carolina waiver page noted above.

Authority: 23 U.S.C. 313; Pub. L. 110-161, 23 CFR 635.410).

Issued on: November 29, 2012.
Victor M. Mendez,
Administrator.

[FR Doc. 2012-29330 Filed 12-4-12; 8:45 am]

BILLING CODE 4910-22-P